DEPARTMENT OF LABOR

Employment and Training Administration

[TA-W-53,948]

Seagate Technology, LLC, Research and Development Division, Oklahoma City, OK; Notice of Negative Determination Regarding Application for Reconsideration

By application of February 18, 2004, a petitioner requested administrative reconsideration of the Department's negative determination regarding eligibility for workers and former workers of the subject firm to apply for Trade Adjustment Assistance (TAA). The denial notice applicable to workers of Seagate Technology, LLC, Research and Development Division, Oklahoma City, Oklahoma was signed on February 3, 2004, and published in the Federal Register on March 12, 2004 (69 FR 11888).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Seagate Technology, LLC, Research and Development Division, Oklahoma City, Oklahoma engaged in activities related to design and planning work for products further developed or produced elsewhere. The petition was denied because the petitioning workers did not produce an article within the meaning of section 222 of the Act.

The petitioner alleges that the workers at the subject facility performed replication of the equipment that is used to build the head disk assemblies (HDA) stations at a Singapore assembly plant and that this replication function was terminated and transferred to Singapore. The petitioner further states that “the last generation HDA assembly equipment ended prototype build by my group in Oklahoma City in October 2002, and Norelco was chartered with replication at that time.”

A company official was contacted regarding these allegations. It was revealed that workers at Seagate Technology, LLC, Research and Development Division, Oklahoma City, Oklahoma were engaged in the procuring, machining and the assembly of the Mobile Stack Automation (MSA) robotics line and were responsible for designing and assembling of OKC prototypes which were further used by Seagate's production facility Norelco in Singapore to manufacture disc drives. In March 2001 and October 2002 the subject firm transferred replication responsibility for the FOF and Seal Lines from Oklahoma City to Norelco in Singapore. However, the petitioning workers were not affected by this transfer as they continued working at the subject facility on OKC prototype (MSA line) until December of 2003. In fact, according to the data provided by the company official, employment at Seagate Technology, LLC, Research and Development Division, Oklahoma City, Oklahoma increased from 2002 to 2003. The official further reported that the Oklahoma City group was terminated in December 2003. At that time, the work done by this group (the MSA Line) was transferred to Longmont, Colorado and was not sent to Singapore.

It was established upon the reconsideration that prototype functions performed at the subject facility during the relevant time period were shifted exclusively to a domestic site. It was also revealed that, although prototype function does occur at an affiliate in Singapore, there was no evidence of a shift from the subject facility to the Singapore affiliate within the relevant time period, or any U.S. imports resulting from this or any other foreign production.

Conclusion

After review of the application and investigative findings, I conclude that there has been no error or misinterpretation of the law or of the facts which would justify reconsideration of the Department of Labor's prior decision. Accordingly, the application is denied.

Signed in Washington, DC, this 15th day of April, 2004.
Elliott S. Kushner,
Certifying Officer, Division of Trade Adjustment Assistance.

[FR Doc. E4-962 Filed 4-29-04; 8:45 am]

BILLING CODE 4510-13-P